DEPARTMENT OF ENERGY

Secretary of Energy Advisory Board

AGENCY: Department of Energy.

ACTION: Notice of open meeting.

SUMMARY: The Department of Energy hereby publishes a notice of open meeting on January 25, 2022, of the Secretary of Energy Advisory Board (SEAB). Due to the COVID-19 pandemic, this meeting will be held virtually for members of the public and in-person at DOE Headquarters, James V. Forrestal Building, 1000 Independence Ave. SW, Washington, DC 20585 for SEAB members only.

DATES: Tuesday, January 25, 2022; 9 a.m.-2 p.m.

ADDRESSES: Virtual meeting for members of the general public. To track attendees, registration is required using the following link: https://doe.webex.com/doe/j.php?RGID=r4a98339039631f483dd01656743fa12b.

FOR FURTHER INFORMATION CONTACT: Christopher Lawrence, Designated Federal Officer, U.S. Department of Energy, 1000 Independence Avenue SW, Washington, DC 20585; email: seab@hq.doe.gov. telephone: (202) 586-5260.

SUPPLEMENTARY INFORMATION:

Background: The Board was established to provide advice and recommendations to the Secretary on the Administration's energy policies; the Department's basic and applied research and development activities; economic and national security policy; and other activities as directed by the Secretary.

Purpose of the Meeting: This is the second meeting of Secretary Jennifer M. Granholm's SEAB.

Tentative Agenda: The meeting will start at 9:00 a.m. on January 25th. The tentative meeting agenda includes: Roll call, remarks from the Secretary, remarks from the SEAB chair, remarks on DOE recruitment, SEAB working group report-outs, and public comments. The meeting will conclude at 2:00 p.m.

Public Participation: The meeting is open to the public. Individuals who would like to attend must RSVP to Christopher Lawrence no later than 5:00 p.m. on Monday, January 24, 2022, by email at: seab@hq.doe.gov.

Individuals and representatives of organizations who would like to offer comments and suggestions may do so during the meeting. Approximately 15 minutes will be reserved for public comments. Time allotted per speaker will depend on the number who wish to speak but will not exceed five minutes. The Designated Federal Officer is empowered to conduct the meeting in a fashion that will facilitate the orderly conduct of business. Those wishing to speak should register to do so via email, seab@hq.doe.gov, no later than 5:00 p.m. on Wednesday, January 24, 2022.

Those not able to attend the meeting or who have insufficient time to address the committee are invited to send a written statement to Christopher Lawrence, U.S. Department of Energy, 1000 Independence Avenue SW, Washington, DC 20585, or email to: seab@hq.doe.gov.

Minutes: The minutes of the meeting will be available on the SEAB website or by contacting Mr. Lawrence. He may be reached at the above postal address or email address, or by visiting SEAB's website at www.energy.gov/seab.

Signed in Washington, DC, on January 4, 2022.
LaTanya Butler,
Deputy Committee Management Officer.

[FR Doc. 2022-00172 Filed 1-7-22; 8:45 am]

BILLING CODE 6450-01-P